DEPARTMENT OF ENERGY

Federal Energy Regulatory Commission

[Docket No. PA02-2-000]

Fact-finding Investigation of Potential Manipulation of Electric and Natural Gas Prices; All Jurisdictional Sellers and All Non-jurisdictional Sellers in the West

March 5, 2002.

On February 13, 2002, the Commission issued an order directing Staff to conduct a fact-finding investigation into whether any entity, including Enron Corporation (through its affiliates or subsidiaries), manipulated short-term prices in electric energy or natural gas markets in the West or otherwise exercised undue influence over wholesale prices in the West, for the period January 1, 2000, forward. In Ordering Paragraph (B) of the February 13, 2002, order, the Commission empowered the General Counsel or her designee, with respect to any matters relevant to that investigation, to gather information and to require the production of any contracts, agreements or other records, among other things.

In the course of conducting this fact-finding investigation, Staff reviewed the wholesale sales information filed by jurisdictional sellers in their quarterly reports. Staff determined that the information contained in the reports is not useful for the fact-finding investigation. Moreover, the information is incomplete as to the markets in the West because non-jurisdictional sellers of wholesale energy do not file quarterly reports.

Accordingly, pursuant to the February 13, 2002, order, I hereby direct all jurisdictional sellers and all non-jurisdictional sellers with wholesales sales in the U.S. portion of the Western Systems Coordinating Council (WSCC) to respond to this information request, as described in more detail below. The failure to respond on the part of any seller to which this information request applies may result in appropriate enforcement action, including the issuance of a subpoena. Any jurisdictional seller that does not have any transactions to report is to report that fact to the e-mail address listed below.

All jurisdictional sellers and all non-jurisdictional sellers with wholesales sales in U.S. portion of the WSCC are required to report on a daily basis certain historical information (specified in an Excel spreadsheet template entitled “Short-term Firm and Non-firm Wholesale Sales Transactions”) for all short-term energy transactions in the U.S. portion of the WSCC for calendar years 2000 and 2001. Short-term energy transactions are defined as those transactions for sales or resales with a term of one week or less. The spreadsheet template includes columns for quantity and price data, transactions with affiliated buyers, non-affiliated buyers, and by specific, identified delivery points.

All jurisdictional and non-jurisdictional sellers with wholesale sales in the U.S. portion of the WSCC are required to report certain historical information for calendar years 2000 and 2001 (specified in an Excel spreadsheet template entitled “Monthly Firm and Non-Firm Wholesale Sales Transactions”) for transactions of capacity and energy in the U.S. portion of the WSCC on a monthly basis. Monthly transactions are defined as all wholesale capacity and wholesale energy sales or resales that were made on a monthly, seasonal, or quarterly basis. The spreadsheet template includes columns for quantity and price data, transactions with affiliated buyers, non-affiliated buyers, and by specific, identified delivery points.

All jurisdictional sellers and all non-jurisdictional sellers with wholesales sales in the U.S. portion in the WSCC are required to report certain historical and projected information (specified in an Excel spreadsheet template entitled “Long Term Capacity and Energy Sales”) for all long-term transactions in the U.S. portion of the WSCC, the contracts for which were executed for delivery on or after January 1, 2000. Long-term transactions are defined as those transactions for a term of one year or more. For the date on which any long-term contract was executed, the spreadsheet template includes columns for quantity and price data, term dates, transactions with affiliated buyers, non-affiliated buyers, and by location. Respondents are also required to provide copies of the relevant contracts, together with all supplements and amendments, in electronic (scanned) format.

Responses must be provided no later than April 2, 2002. The three Excel spreadsheets needed to complete this information request are contained in two files posted on the Commission's web page for Docket No. PA02-2-000 (http://www.ferc.gov/electric/bulkpower/pa02-2/pa02-2.htm). These spreadsheets are to be completed by respondents and e-mailed to william.booth@ferc.gov. A response that exceeds the row limit for an Excel spreadsheet must be reported in CSV format. If any respondent seeks privileged treatment of the information pursuant to 18 CFR 388.112 (2001), two versions of each spreadsheet should be e-mailed. Include in the e-mail and in the title of the spreadsheet that the information is “Confidential” or “Not Confidential.”

A copy of this information request will be published in the Federal Register and published on the Commission's web page for Docket No. PA02-2-000 (http://www.ferc.gov/electric/bulkpower/pa02-2/pa02-2.htm). In addition, it also will be mailed to all the jurisdictional public utilities listed in the appendix to the November 20, 2001, order in Docket No. EL01-118-000.

Respondents seeking assistance with this information request may contact Mr. William Booth at 202-208-0849 (technical) or Ms. Jo Tolley at 202-208-1260 (non-technical).

Donald J. Gelinas,
Associate Director, Office of Markets, Tariffs and Rates.

[FR Doc. 02-5721 Filed 3-11-02; 8:45 am]

BILLING CODE 6717-01-P